DEPARTMENT OF COMMERCE

Foreign-Trade Zones Board

[B-49-2020]

Foreign-Trade Zone (FTZ) 183—Austin, Texas Authorization of Production Activity; Flextronics America, LLC (Automated Data Processing Machines), Austin, Texas

On July 24, 2020, Flextronics America, LLC submitted a notification of proposed production activity to the FTZ Board for its facility within Subzone 183C, in Austin, Texas.

The notification was processed in accordance with the regulations of the FTZ Board (15 CFR part 400), including notice in the Federal Register inviting public comment (85 FR 47165, August 4, 2020). On November 23, 2020, the applicant was notified of the FTZ Board's decision that no further review of the activity is warranted at this time. The production activity described in the notification was authorized, subject to the FTZ Act and the FTZ Board's regulations, including Section 400.14.

Dated: November 23, 2020.
Andrew McGilvray,
Executive Secretary.

[FR Doc. 2020-26232 Filed 11-25-20; 8:45 am]

BILLING CODE 3510-DS-P